DEPARTMENT OF ENERGY

Federal Energy Regulatory Commission

[Project No. 2413-117]

Georgia Power Company; Notice of Proposed Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Georgia Department of Natural Resources—Historic Preservation Division (Georgia SHPO) and the Advisory Council on Historic Preservation (Advisory Council) pursuant to the Advisory Council's regulations, 36 CFR part 800, implementing section 106 of the National Historic Preservation Act, as amended (54 U.S.C. 306108), to prepare a Programmatic Agreement for managing properties included in, or eligible for inclusion in, the National Register of Historic Places at the Wallace Dam Pumped Storage Project.

The Programmatic Agreement, when executed by the Commission, the Georgia SHPO, and the Advisory Council, would satisfy the Commission's section 106 responsibilities for all individual undertakings carried out in accordance with the license until the license expires or is terminated (36 CFR 800.13(e)). The Commission's responsibilities pursuant to section 106 for the project would be fulfilled through the Programmatic Agreement, which the Commission staff proposes to draft in consultation with certain parties listed below.

Georgia Power Company, as licensee for the Wallace Dam Pumped Storage Project, is invited to participate in consultations to develop the Programmatic Agreement and to sign as a concurring party to the Programmatic Agreement. For purposes of commenting on the Programmatic Agreement, we propose to restrict the service list for Project No. 2413-117 as follows:

Dr. John Eddins, Advisory Council on Historic Preservation, 401 F Street NW., Suite 308, Washington, DC 20001-2637

Christine Quinn, Georgia Department of Natural Resources—Historic Preservation Division, 254 Washington Street SW., Atlanta, GA 30334

Courtenay R. O'Mara, P.E., Southern Company Generation, 241 Ralph McGill Blvd. NE., BIN 10193, Atlanta, GA 30308

Joseph Charles, Georgia Power Company, 241 Ralph McGill Blvd. NE., BIN 10151, Atlanta, GA 30308

Wanda Greene, Georgia Power Company, 241 Ralph McGill Blvd. NE., BIN 10151, Atlanta, GA 30308

Hallie M. Meushaw, Troutman Sanders LLP, Bank of America Plaza, 600 Peachtree Street NE., Suite 5200, Atlanta, GA 30308

Thomas M. Dozier, District Ranger, Chattahoochee-Oconee National Forest, Oconee National Forest, 1199 Madison Road, Eatonton, GA 31024

Lisa C. Baker, Acting THPO, United Keetoowah Band of Cherokee Indians in Oklahoma, P.O. Box 746, Tahlequah, OK 74465

Tyler Howe, THPO, Eastern Band of Cherokee Indians, P.O. Box 455, Cherokee, NC 28719

Principal Chief Bill John Baker, Cherokee Nation, P.O. Box 948, Tahlequah, OK 74465

James Wettstaed, U.S. Forest Service, 1755 Cleveland HWY, Gainesville, GA 30501

Stacy Lundgren, U.S. Forest Service, 1199 Madison Road, Eatonton, GA 31024

Any person on the official service list for the above-captioned proceedings may request inclusion on the restricted service list, or may request that a restricted service list not be established, by filing a motion to that effect within 15 days of this notice date. A copy of any such motion must be filed with the Secretary of the Commission (888 First Street NE., Washington, DC 20426) and must be served on each person whose name appears on the official service list. If no such motions are filed, the restricted service list will be effective at the end of the 15 day period. Otherwise, a further notice will be issued ruling on the motion.

Dated: June 11, 2015.
Kimberly D. Bose,
Secretary.

[FR Doc. 2015-14872 Filed 6-16-15; 8:45 am]

BILLING CODE 6717-01-P